DEPARTMENT OF COMMERCE

National Institute of Standards and Technology

[Docket Number: 991019280-0011-02]

RIN: 0693-ZA34

Partnership for Advancing Technologies in Housing Cooperative Research Program (PATH-CoRP)—Notice of Availability of Funds; Correction

AGENCY: National Institute of Standards and Technology, Commerce.

ACTION: Notice; Correction.

SUMMARY: The Department of Commerce, National Institute of Standards and Technology (NIST) published a document in the Federal Register on December 7, 1999, concerning the availability of funds for the Partnership of Advancing Technologies in Housing Cooperative Research Program (PATH-CoRP). The document inadvertently provided some incorrect information and failed to provide some imperative information.

FOR FURTHER INFORMATION CONTACT: Stephen Cauffman, (301) 975-6051.

Correction

In the Federal Register of December 7, 1999, in FR Doc. 99-31606, on page 68322, in the second column, correct the ADDRESSES AND CONTACT INFORMATION caption to read:

ADDRESS AND CONTACT INFORMATION: Applicants are requested to submit any technical questions to: Mr. Stephen Caufmann, NIST BFRL, Structures Division, 100 Bureau Drive, STOP 8611, Gaithersburg, MD 20899-8611, Phone (301) 975-6051, E-mail Cauffman@nist.gov. Administrative questions should be directed to Joyce F. Brigham, NIST Grant Office, 100 Bureau Drive, STOP 3573, Gaithersburg, Maryland 20899-3573, Telephone: 975-6329.

On page 68323, in the third column, correct the APPLICATION KIT caption to read:

APPLICATION KIT: Each applicant must submit one signed original and two signed copies of each proposal along with the Grant forms delineated below to: National Institute of Standards and Technology, Building and Fire Research Laboratory, Structures Division, 100 Bureau Drive, STOP 8611, Gaithersburg, MD 20899-8611, Attention Stephen Cauffman. In addition, technical proposals must not exceed 20 pages. However, this page limitation EXCLUDES the SF-424, SF-424A, and Budget narrative, SF-424B, CD-346, CD-511, CD-512, and SF-LLL.

An application kit, containing all required application forms and certifications may be obtained by contacting Ms. Lisa Wells, (301) 975-6048 or E-mail, Lisa.wells@NIST.gov. The application kit includes the following:

SF-424 (Rev. 7/97)—Application for Federal Assistance.

SF-424A (Rev. 7/97)—Budget Information—Non-Construction Programs

SF-424B (Rev. 7/97)—Assurances—Non-Construction Programs

CD-346 (Rev. 6/97)—Applicant for Funding Assistance

CD-511 (7/91)—Certification Regarding Debarment; Suspension, and Other Responsibility Matters: Drug-Free Workplace Requirements and Lobbying

CD-512 (7/91)—Certification Regarding Debarment, Suspension, Ineligibility and Voluntary Exclusion—Lower Tier Covered Transactions and Lobbying

SF-LLL—Disclosure of Lobbying Activities

Applications will not be accepted via facsimile machine transmission or electronic mail.

Raymond G. Kammer,
Director, NIST.

[FR Doc. 00-1402 Filed 1-20-00; 8:45 am]

BILLING CODE 3510-13-M